NATIONAL SCIENCE FOUNDATION

National Science Board; Nominations for National Science Board Public Service Award

The National Science Board (NSB) Public Service Award Committee invites nominations for the 2004 NSB Public Service Award. Established by the Board in November 1996, the Award is presented annually in May to recognize people and organizations who have increased public understanding of science or engineering. The award may be given to an individual and to a group (a company, corporation, or organization). Members of the U.S. Government are not eligible. Accomplishments in science and engineering are helpful but not a primary consideration. Selection criteria and nomination guidelines can be found at http://www.nsf.gov/nsb/awards/public/public.htm.

A six member advisory committee evaluates nominations and makes recommendations to the National Science Board in March 2004. Nominations must be submitted by fax (703-292-9008) no later than February 29, 2004 to the Chairman, NSB Public Service Award Committee, National Science Foundation, 4201 Wilson Blvd, Room 1220, Arlington, VA 22230. Any questions should be directed to Mrs. Susan E. Fannoney, Executive Secretary to the Committee (703-292-8096).

For Further Information Contact: Michael P. Crosby, Ph.D., Executive Officer, NSB, (703) 292-7000.

Michael P. Crosby,
Executive Officer.

[FR Doc. 04-3387 Filed 2-17-04; 8:45 am]

BILLING CODE 7555-01-P